DEPARTMENT OF THE INTERIOR

National Park Service

National Register of Historic Places; Notification of Pending Nominations and Related Actions

Nominations for the following properties being considered for listing or related actions in the National Register were received by the National Park Service before May 30, 2009. Pursuant to § 60.13 of 36 CFR part 60, written comments concerning the significance of these properties under the National Register criteria for evaluation may be forwarded by the United States Postal Service to the National Register of Historic Places, National Park Service, 1849 C St., NW., 2280, Washington DC 20240; by all other carriers, National Register of Historic Places, National Park Service, 1201 Eye St., NW., 8th floor, Washington DC 20005; or by fax, 202-371-6447. Written or faxed comments should be submitted by June 29, 2009.

J. Paul Loether,
Chief, National Register of Historic Places/National Historic Landmarks Program.

COLORADO

El Paso County

North Cheyenne Canon Park, 2120 N. Cheyenne Canon Rd., Colorado Springs, 09000489

Grand County

Little Buckaroo Ranch Barn, 20631 Trail Ridge Rd., Rocky Mountain National Park, Grand Lake, 09000490

FLORIDA

Lake County

Laroe Family Homestead Historic District, 3430 W. Co. Rd. 44 & 2891 E. Orange Ave., Eustis, 09000493

GEORGIA

Chatham County

Eureka Club—Farr's Point, 2326 E. Blvd., Savannah, 09000491

Jasper County

Pope-Talmadge House, 2560 Calvin Rd., Monticello, 09000492

INDIANA

Clark County

Ohio Falls Car and Locomotive Company Historic District, 300 Missouri Ave., Jeffersonville, 09000494

KANSAS

Butler County

Loomis-Parry House, 1003 State St., Augusta, 09000495

Crawford County

First Presbyterian Church, 202 N. Summit, Girard, 09000496

Douglas County

Mackie, George K., House, (Lawrence, Kansas MPS) 1941 Massachusetts St., Lawrence, 09000497

Sedgwick County

Pryor House, (Residential Resources of Wichita, Sedgwick County, Kansas 1870-1957) 263 S. Pershing, Wichita, 09000499

Van Arsdale, W.O., House, (Residential Resources of Wichita, Sedgwick County, Kansas 1870-1957) 201 N. Broadway, Wichita, 09000500

Winders Historic District, (Residential Resources of Wichita, Sedgwick County, Kansas 1870-1957) 1038-1040, 1044, and 1045 S. Topeka Ave., Wichita, 09000498

Trego County

Lipp Barn, (Agriculture-Related Resources of Kansas) 17054 103rd Ave., Collyer, 09000501

MISSOURI

Cape Girardeau County

Erlbacher Buildings, 1105 and 1107 Broadway, Cape Girardeau, 09000502

Madison County

Fredericktown Courthouse Square Historic District, 110-145 E. Main St., 106-125 W. Main St., 110-120 S. Main St. and Court Square, Fredericktown, 09000503

NORTH CAROLINA

Guilford County

Foust-Carpenter and Dean Dick Farms, E. and W. sides of Mt. Hope Church Rd., N. and S. sides of Carpenter House Rd., Whitsett, 09000504

NORTH DAKOTA

Burleigh County

Double Ditch State Historic Site, Address Restricted, Bismarck, 09000505

WASHINGTON

King County

Naval Reserve Armory, 860 Terry Ave. N., Seattle, 09000506

Women's University Club of Seattle, 1105 6th Ave., Seattle, 09000507

Pierce County

Washington Building, 1019 Pacific Ave., Tacoma, 09000508

WISCONSIN

Columbia County

Zion Evangelical Lutheran Church and Parsonage, 236 and 254 W. Mill St., Columbus, 09000509

[FR Doc. E9-13951 Filed 6-11-09; 8:45 am]

BILLING CODE P